NUCLEAR REGULATORY COMMISSION

[NRC-2016-0001]

Sunshine Act Meeting

DATE: April 18, 25, May 2, 9, 16, 23, 2016.

PLACE: Commissioners' Conference Room, 11555 Rockville Pike, Rockville, Maryland.

STATUS: Public and Closed.

Week of April 18, 2016

Tuesday, April 19, 2016

9:30 a.m. Meeting with the Organization of Agreement States and the Conference of Radiation Control Program Directors (Public Meeting) (Contact: Paul Michalak: 301-415-5804)

This meeting will be webcast live at the Web address— http://www.nrc.gov/.

Week of April 25, 2016—Tentative

There are no meetings scheduled for the week of April 25, 2016.

Week of May 2, 2016—Tentative

There are no meetings scheduled for the week of May 2, 2016.

Week of May 9, 2016—Tentative

There are no meetings scheduled for the week of May 9, 2016.

Week of May 16, 2016—Tentative

Tuesday, May 17, 2016

9:00 a.m. Briefing on the Status of Lessons Learned from the Fukushima Dai-ichi Accident (Public Meeting) (Contact: Kevin Witt: 301-415-2145)

This meeting will be webcast live at the Web address— http://www.nrc.gov/.

Thursday, May 19, 2016

10:00 a.m. Briefing on Security Issues (Closed Ex. 1)

1:30 p.m. Briefing on Security Issues (Closed Ex. 1)

Week of May 23, 2016—Tentative

There are no meetings scheduled for the week of May 23, 2016.

The schedule for Commission meetings is subject to change on short notice. For more information or to verify the status of meetings, contact Denise McGovern at 301-415-0681 or via email at Denise.McGovern@nrc.gov.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: April 13, 2016.
Denise McGovern,
Policy Coordinator, Office of the Secretary.

[FR Doc. 2016-08954 Filed 4-14-16; 11:15 am]

BILLING CODE 7590-01-P